DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 138 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set out in 49 CFR part 381.

Accordingly, FMCSA evaluated 138 individual exemption requests on their merits and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 24 applicants lacked sufficient driving experience during the 3-year period prior to the date of their application: Henry P. Ashbacher, Edgar Berrios, Donald R. Bond, Kory J. Bortz, Joel S. Cadbury, Thomas J. Farrell, Robert M. Fleming, Larry F. Graves, Michael Hansen, Jackie L. Harris, David Hunt, Kelly Jasperson, Robert J. Korybski, Carl Kuhn, Ray S. Martin, Steven G. Mason, James M. McCormick, Anthony P. Mercer, Terry L. Mosel, Randy T. Richardson, Benjamin J. Schoenrock, Joseph M. Vlosich, Jr., William Walker, Harlan H. Zimmerman.

The following 9 applicants did not have any experience operating a CMV: Philip W. Arneson, Wayne Hoyne, Edward L. Knutson, Juan Moreno, Jammie A. Noblit, Stephen W. Petro, Jr., Daniel Salazar, Bruce Shepherd, Andrew C. Simpson.

The following 35 applicants did not have 3 years of experience driving a CMV on public highways with the vision deficiency: James W. Bittle, Jack A. Boyd, Charlene Brown, Steven W. Brown, John W. Caswell, Westcott Clarke, John Cooper, Thomas T. Currier, Ron L. Deering, Daniel DePaul, Wayne E. Easter, Brandy Jackson, Kelly L. Johnson, Max B. Kelso, James Koons, Craig C. Lowry, Ruben Lozano, Alan T. Lukosunas, Thomas M. Manz, Stephen G. McSpadden, Paul L. Medis, Bennis Monte, Greg A. Nichols, Edward J. Popow, Carrol R. Posey, Ricky A. Rahmlow, Dana L. Riggs, Johnny F. Rivera, Herdis Rumph, James S. Stevens, Kevin Sullivan, Earl L. Tanner, Andrew A. Thompson, David K. Walling, Jack Wood.

The following 9 applicants did not have 3 years of recent experience driving a CMV with the vision deficiency: Carlos D. Castillo, Gerald E. Diedrich, Dale A. Kelso, Victor H. Lindsay, Michael E. Loudermilk, Larry Rapp, Ernest W. Roy, Richard M. Telliho, Douglas V. Williams.

The following 24 applicants did not have sufficient driving experience over the past 3 years under normal highway operating conditions: Patrick D. Blair, Jason W. Bowers, Kenneth Bryant, Clifford C. Commeau, Jr., William R. Cummings, Diane DuMonte-Slater, Richard P. Frederiksen, Johnny Gibson, John Knapp, Matthew P. Littleton, Robert R. Martin, John J. Mattefs, Randy A. Miller, Scott R. Miner, Francisco Montero, Francis E. Paquin, Armando Pedroso, Matias P. Quintanilla, Jim Sampson, John P. Stoetzel, Donald Stone, Terry G. Theberge, Albert Villa, Jr., Jack L. Woolever.

One applicant, Gregory C. Simmons, had more than 2 commercial motor vehicle violations during the 3-year review period and/or application process. Each applicant is only allowed 2 moving citations.

One applicant, Thomas E. Sprague, Jr., did not have sufficient peripheral vision in his better eye to qualify for an exemption.

One applicant, Robert C. Hill, had other medical conditions making him unqualified under Federal Motor Carrier Safety Regulations. All applicants must meet all other physical qualifications standards in 49 CFR 391.41(b)(1-13).

The following 2 applicants had commercial driver's license suspensions during the 3-year review period in relation to a moving violation. Applicants do not qualify for an exemption with a suspension during the 3-year period: Steven F. Albro, Carlos Diaz.

One applicant, David L. Napier, did not hold a license which allowed operation of vehicles over 10,000 pounds for all or part of the 3-year period.

One applicant, Elizel Martinez, did not have an Optometrist/Ophthalmologist willing to state that he is able to operate a commercial vehicle from a vision standpoint.

The following 9 applicants were denied for miscellaneous/multiple reasons: Walter Clark, James E. Cotton, Joseph E. Lochotzki, David C. Moran, Vincent R. Neville, Steven R. Parker, Enrique Perez, Justinie R. Phillips, Lee G. Smith.

The following 2 applicants never submitted the required documents: Bernard Sippin, Michael E. Williams.

Finally, the following 19 applicants met the current federal vision standards. Exemptions are not required for applicants that meet the current regulations for vision: Dennis Burdett, Brian J. Douglas, Clarence Elsea, Servando T. Escudero, Wayne Figroid, Shawn T. Girgen, Sandra L. Gravett, Daniel R. Hicks, Richard Hull, Eric L. Kinner, Luther B. Livingston, Thomas W. May, Spencer Melton, David M. Nelson, Tommy J. Shelton, Kent D. Tufvander, W. Hall Van Horn, Etienne D. Vincent, Ricky Wilkinson.

Issued on: August 20, 2009.
Larry W. Minor,
Associate Administrator for Policy and Program Development.

[FR Doc. E9-20623 Filed 8-25-09; 8:45 am]

BILLING CODE 4910-EX-P